DEPARTMENT OF COMMERCE

Submission for OMB Review: Comment Request

DOC has submitted to the Office of Management and Budget (OMB) for clearance the following proposal for collection of information under the provisions of the Paperwork Reduction Act of 1995, Public Law 104-13.

Bureau: International Trade Administration.

Title: U.S. Commercial Service Trade Specialist Counseling Session Survey.

Agency Form Number: ITA-XXXX.

OMB Number: 0625-XXXX.

Type of Request: Regular Submission.

Burden: 170 hours.

Number of Respondents: 1700.

Avg. Hours Per Response: 10 minutes.

Needs and Uses: The International Trade Administration's U.S. Commercial Service is mandated by Congress to help U.S. businesses, particularly small and medium-sized companies, export their products and services to global markets. As part of its mission, the U.S. Commercial Service uses “Quality Assurance Surveys” to collect feedback from the U.S. business clients it serves. The subject survey deals with a particular aspect of service provided by U.S. Commercial Service trade specialists. These specialists counsel clients about their international marketing needs and work with the clients to provide “global trade solutions.” The subject survey asks clients whether they are satisfied with the counseling they have received from U.S. Commercial Service domestic trade specialists. Results from the survey will be used to make improvements to the agency's business processes, in order to provide better and more effective export assistance to U.S. companies.

Affected Public: U.S. companies who have participated in counseling sessions with U.S. Commercial Service trade specialists.

Frequency: Twice a year.

Respondent's Obligation: Voluntary.

OMB Desk Officer: David Rostker, (202) 395-7340.

Copies of the above information collection can be obtained by writing Diana Hynek, Department Paperwork Clearance Officer, Department of Commerce, Room 6625, 14th & Constitution Avenue, NW., Washington, DC 20230 or e-mail: dHynek@doc.gov. Written comments and recommendations for the proposed information collection should be sent to David Rostker, OMB Desk Officer at: David_Rostker@omb.eop.gov or fax: (202) 395-7285, within 30 days of the publication of this notice in the Federal Register.

Dated: February 16, 2005.
Madeleine Clayton,
Management Analyst, Office of the Chief Information Officer.

[FR Doc. 05-3392 Filed 2-22-05; 8:45 am]

BILLING CODE 3510-FP-P